DEPARTMENT OF COMMERCE

National Oceanic and Atmospheric Administration

[Docket No. 020409082-2082-01]

RIN 0648-ZB18

Call for Proposals To Establish a Cooperative Institute for Ocean Remote Sensing With the National Environmental Satellite, Data, and Information Service

AGENCY: National Oceanic and Atmospheric Administration (NOAA), National Environmental Satellite, Data, and Information Service (NESDIS), Commerce.

ACTION: Notice of availability of Federal assistance.

SUMMARY: The National Environmental Satellite, Data, and Information Service (NESDIS) invites applications to establish a Cooperative Institute for Ocean Remote Sensing (CIORS). The Institute will be structured to provide a stable collaborative environment between NESDIS and the recipient within which a broad-based research program in ocean remote sensing can be developed and sustained. This announcement provides guidelines for the proposed Cooperative Institute, and includes details for the technical program, evaluation criteria, and competitive selection procedures.

DATES: Complete proposals with a Grants Application Package must be received by NESDIS at the address identified in the ADDRESSES section of this notice no later than 5 p.m. EST on July 1, 2002. Facsimile transmissions and electronic mail submissions will not be accepted. Late applications will not be considered, and will be returned to the applicant.

ADDRESSES: Send all proposals to the Office of Research and Applications; NOAA/NESDIS; 5200 Auth Road; Room 711; Camp Springs, MD 20746-4304. Proposals should cite this Notice and be sent to the attention of Dr. Eric Bayler, Chief, Oceanic Research and Applications Division (ORAD).

FOR FURTHER INFORMATION CONTACT: Regarding administration questions, Ms. Kathleen LeFevre, (301) 763-8127, Kathy.Lefevre@noaa.gov. Regarding program questions, Dr. Eric Bayler (301) 763-8102 ext. 102, Eric.Bayler@noaa.gov. Additional information on NESDIS and its mission-related remote sensing activities can be found at http://www.nesdis.noaa.gov.

SUPPLEMENTARY INFORMATION:

Funding Instrument: The selected recipient will: (1) Enter into a Memorandum of Understanding (MOU) with the National Environmental Satellite, Data and Information Service that delineates the terms of reference for establishing the Cooperative Institute and provides guidelines for its subsequent activities; and, (2) Receive a renewable, 5-year cooperative agreement to support the development of the Institute's cooperative research program with NESDIS in the area of satellite ocean remote sensing. The award will have an initial base term of five years. A NESDIS-sponsored, independent panel will conduct a review of the Institute during the fourth year of the five-year program. The Panel's findings and recommendations will serve as the basis for renewal of the Institute for an additional five years.

Authority: Statutory authority for this program is provided under 33 U.S.C. 1442 (Research program respecting possible long-range effects of pollution, over fishing, and man-induced changes of ocean ecosystems); and 49 U.S.C. 44720 (Meteorological Services).

Catalog of Federal Domestic Assistance (CFDA): This program is listed in the Catalog of Federal Domestic Assistance under Number 11.440 (Research in Remote Sensing of the Earth and Environment).

Funding Availability: Funding for this program in FY 2002 will be contingent upon the availability of funds, but it is anticipated that approximately $500,000 will be available for the first (start-up) year and a minimum of $500,000 each year thereafter for the term of the agreement. These funds will provide a base core of funds for the development and subsequent activities of the Institute and include the core costs of administering the Institute and funding of the individual research projects. These funds will be allocated as follows: no more than $250,000 for costs associated with the administration and outreach components of the Institute; the remainder to fund the individual projects that form the research component. The administration and outreach components will form the base proposal to be funded on an annual basis. The individual research projects will be funded as amendments to the base cooperative agreement. The Director of the Institute will be responsible for the overall development of the research programs. The successful applicant will be expected to leverage off this base to develop, by the end of the initial five-year term of the cooperative agreement, a self-sustaining, competitive research program in externally-supported coastal and open-ocean satellite remote sensing (hereafter described as “ocean remote sensing”) research with a goal on the order of $1,000,000 annually.

Eligibility Criteria

Eligible applicants are non-federal public and private non-profit universities, colleges, and research institutions that offer accredited graduate-level degree-granting programs leading to a Doctor of Philosophy (Ph.D.) in Oceanography, or equivalent degree in the physical or Earth sciences.

Background

The ocean increasingly impacts various aspects of human lives, including economics, public safety, national security, and quality of life. Ocean-observing environmental satellites provide a critical observational resource in the Nation's efforts to understand and predict these complex relationships. NESDIS seeks to establish a Cooperative Institute for Ocean Remote Sensing. The Institute will provide a collaborative research and technology environment enabling the Nation's academic and industrial research communities and NESDIS to promote and make available research into operational ocean remote sensing capabilities.

NOAA has primary mission responsibilities in environmental prediction, assessment, and the conservation and management of coastal and oceanic resources. NESDIS, one of the five principal offices within NOAA, has the lead role in providing environmental satellite data and information to support NOAA's coastal and ocean mission roles. NESDIS is involved in the full spectrum of environmental satellite activities. These activities include: satellite spacecraft operations; data acquisition from both domestic and foreign environmental satellites; environmental data distribution and management; research and development of environmental data products and information services; and development of future satellite sensor requirements.

Within NESDIS, the Office of Research and Applications (ORA) serves as the principal interface between the NESDIS operational oceanic, atmospheric, and climate-related satellite observation activities and the Nation's research community. Through a broad range of both internally- and externally-funded research activities, ORA helps ensure that NESDIS realizes the full potential of national and international research in atmospheric, oceanic, and terrestrial remote sensing across the full spectrum of its mission responsibilities described above.

Program Description

The primary purpose of the Institute is to create a mechanism to bring together the resources of a research-oriented university or institution, NESDIS, and other branches of NOAA in order to develop and maintain a center of excellence in satellite remote-sensing research relevant to understanding and providing adequate stewardship of the Earth's oceans, coastal waters, marine ecosystems, and the living and non-living resources within these regions. The selected recipient will be expected to:

1. Build an Institutional Infrastructure (Administrative Core): Provide an organizational setting to promote and establish research relating to satellite ocean remote sensing by drawing upon multiple disciplines and involving collaboration with multiple research-performing and research-sponsoring partners. Serve as a model of outreach, input, and collaboration for applying research to solving priority problems in coastal and ocean remote sensing, current satellite system optimization, and future satellite system development and planning.

2. Expand Research in Satellite Ocean Remote Sensing, Satellite Data Management, and User Access Technologies (Research Component): Support multi-disciplinary research projects aimed at satellite remote-sensing in support of the Nation's coastal and ocean remote-sensing responsibilities, to include: (a) Algorithm development and validation; (b) Application of active and passive satellite remote-sensing techniques such as altimetry, scatterometry, synthetic aperture radar, radiometry, and ocean color imagery; (c) Satellite sensor development and demonstration; (d) Technologies relating to satellite data acquisition, data distribution, mission operations, and mission planning; and satellite sensor development and demonstration; (e) Technologies relating to improving user access to data and data management; (f) Techniques for assimilating satellite data for improved ocean modeling and forecasting of both oceanic and atmospheric parameters. Through such multi-disciplinary research, explore new approaches for enhancing the use of present and future environmental satellites to meet the rapidly changing needs of the Nation's coastal and ocean regions.

3. Increase Recruitment and Outreach (Outreach Component): Enhance opportunities for user familiarization with ocean and coastal satellite remote sensing, research training, career development, and mentoring in ocean remote sensing.

Roles and Responsibilities

In conducting activities to achieve the purpose of this program, the recipient will be responsible for the activities under 1 (Recipient Activities), and NESDIS will be responsible for the activities under 2 (NESDIS activities).

1. Recipient Activities

(A) Administrative Core: (1) Establish an appropriate organizational setting and institutional infrastructure that are supportive of developing the Cooperative Institute into a self-sustaining research collaboration. This setting must facilitate collaboration between NESDIS, the Cooperative Institute, and multiple external research partners. (2) Establish relationships with organizations relevant to the success of the Institute's research agenda, demonstrated by letters of agreement. Cooperation with public and private sector coastal and ocean resource management, administration, and research programs is encouraged. (3) Establish appropriate relationships with organizations or individuals to ensure that the Institute's research can be applied to solving priority problems of a national scale (meaning, broadly applicable) or in local regions.

(B) Research Component: (1) Organize and develop an integrated research program theme and agenda that will address research topics of programmatic interest to NESDIS/ORA/ORAD as outlined in the “Program Description” section of this announcement. An overview of ORAD's programs is available on their website http://orbit-net.nesdis.noaa.gov/ora/.(2) Within the developed research agenda, design and propose research projects that have sufficient scientific merit to attract external research funding. (3) Conduct oceanographic research of significance to NESDIS' role in coastal and open ocean processes. Individual research projects are to be coordinated with one another and, whenever possible, projects among research areas are also to be coordinated. The high level of coordination is intended to broaden the scientific findings of each individual project or program by making research results useful to a large number of scientists conducting research in oceanographic sciences. Specifically, the Director shall ensure that: (a) The research falls within the scope of the 5-year cooperative agreement; (b) collaborative efforts with NESDIS and other organizations are identified; (c) the research addresses important problems; (d) the concepts and methods proposed for the research are acceptable; (e) Principal Investigators are qualified to conduct the research; and (f) costs are fair and reasonable. (4) Disseminate research findings to the national and international scientific communities via journals, conference presentations, and the World-Wide Web.

(5) Make successful research available to efforts and applications that improve the Nation's ocean remote-sensing capabilities, ocean models, marine and atmospheric forecast accuracy, long-term ocean monitoring.

(C) Outreach Component: Establish a program for enhancing opportunities, career development and training, including the mentoring of junior researchers and programs for training mid-career or transitional professionals.

2. NESDIS Activities

(A) Review proposal(s), conducted by the NOAA Program Officer, to ensure that the research is consistent with the joint technical and programmatic interests of the organizations.

(B) Provide technical assistance on projects as necessary.

(C) Provide for the exchange of professional staff, skilled in relevant aspects of ocean remote sensing research, for research program development, mentoring, cross-training of scientists and professionals, and professional development.

(D) Collaborate with the Institute's scientists on research activities.

(E) Provide access to NESDIS developmental and operational environmental satellite data, information, and constituency service activities to support the Institute's research program.

NOAA Grants Application Package. The Department of Commerce (DOC) Pre-Award Notification of Requirements for Grants and Cooperative Agreements contained in the Federal Register Notice of October 1, 2001 (66 FR 49917; DOCID:fr01oc01-39) are applicable to this solicitation. However, please note that DOC will not implement the requirements of Executive Order 13202 (66 FR 49921), pursuant to guidance issued by the Office of Management and Budget in light of a court opinion which found that the Executive Order was not legally authorized. See Building and Construction Trades Department v. Allbaugh, 172 F. Supp. 2d 138 (D.D.C. 2001). This decision is currently on appeal. When the case has been finally resolved, DOC will provide further information on implementation of Executive Order 13202. All applicants are required to submit a complete application package and proposal. The standard forms and additional information are available on the DOC Grants Management Web site at http://www.doc.gov/oebam/grants.htm. If Internet access is not available, forms can be obtained by mail by contacting the NOAA/NESDIS/ORA at (301) 763-8102. A signed original and two copies of the proposal must be received by ORA by the time and date indicated in the DATES section of this Notice. Investigators are required to submit 3 copies of the proposal, however, the review process requires 10 copies. Investigators are encouraged to submit sufficient proposal copies, especially color or unusually sized (not 8.5″×11″), or otherwise unusual materials submitted as part of the proposal. Proposals must be limited to a total of no more than 40 pages, including budget justification, investigators’ vitae, and all appendices. Appended information may not be used to circumvent the page length limit. Federally-mandated forms are not included within the page count. Proposals should be submitted in the following format in 12-point font. Incomplete proposals will not be considered and will be returned to the applicant.

Proposal Preparation

Core Proposal for establishing and administering the Institute.

1. Title Page—Core funding for the Cooperative Institute for Ocean Remote Sensing (CIORS), the lead Principal Investigator (Director, CIORS), Partner name(s) (if any) and their respective affiliations, complete addresses, telephone, FAX, and e-mail information. The title page will also provide the total proposed cost on an annual basis for the five-year period. The title page should be signed by the Principal Investigators (PI(s)) and the institutional representative of the PI's organization.

2. Goals and Objectives of the Institute—Identify broad research goals, a general description of how the applicant proposes to achieve those goals, a summary of the applicant's institutional qualifications and relevant experience to conduct the proposed program, and quantifiable objectives for each of the three primary elements for the proposed Cooperative Institute: Administrative Core, Research Component, and Outreach Component.

3. Technical Approach—Describe the specific approach the applicant proposes to accomplish the proposed Institute's identified purposes. Provide details of the Institute's process for selecting individual research projects.

4. Project Partners—Identify any project partners, their respective roles, and their contributions/relationships to the proposed effort.

5. Milestones and Outcomes—List target milestones, time lines, and desired outcomes; and identify the potential value of the proposed work to the needs of the targeted audience.

6. Qualifications and Relevant Experience—Identify the qualifications and relevant experience of the applicant (and partners) that relate to each of the following ocean remote-sensing activities relevant to the mission of NESDIS: Satellite spacecraft operations; data acquisition from both domestic and foreign environmental satellites; data distribution and management; research and development of environmental data products and information services; assimilation of remote-sensing data into environmental models, and future satellite sensor requirements development.

7. Summary of the applicant's relevant current or recently completed (please limit to past 5 years) administrative, research and outreach activities that should be considered in selection process. Also identify activities related to achieving NOAA's goals with respect to minority serving institutions.

8. Institute Budget—Provide a detailed budget breakdown by category (Core funding, research themes (by year for efforts proposed for multiple years)) and a brief narrative to provide the basis for the proposed budget.

9. Key Personnel Qualifications—Provide curriculum vitae for each individual considered key to the success of the proposed effort, including relevant publications by the individual in scientific and professional literature.

Evaluation Criteria (with weights)

Applications will be subject to a peer review. Each application will be evaluated individually against the following criteria, with each proposal's score based on scientific and technical merit. Factors to be considered include:

1. Build Infrastructure (Administrative Core)—30 Points

A. Organizational Infrastructure: Does the applicant demonstrate a multi-disciplinary approach to achieve the mission? Will the approach lead to the development of a body of knowledge that can yield results beyond that accomplished with individual projects alone? Will the CIORS attract established investigators and develop genuine collaboration among investigators with diverse backgrounds and areas of expertise.

B. Environment: Does the scientific, technical and administrative environment of the institute contribute to excellence and the probability of success? Does the proposed Institute employ useful collaborative arrangements? Is there evidence of a high level of Institutional commitment and support? Does the Institute Director (PI) have specific authority and responsibility to carry out the project? Does the Institute Director have a high enough level of organizational influence to garner the support needed for the institute, i.e., report to an appropriate institutional official, e.g., dean of school, vice president of a university? Is the time and effort indicated for the Institute Director adequate (minimum of 25 percent effort devoted solely to the Institute) with an anticipated range of 25 to 50 percent)?

C. Collaboration: Ability to build coalitions and partnerships with critical organizations and individuals (such as distinguished scientists, as well as potential researchers-in-training, universities, colleges, research institutions, state and local governments, and other public and private nonprofit organizations) and to facilitate collaboration and coordination to assure the accomplishment of the Institute's goals.

D. Organization: The quality and appropriateness of the organizational structure, the quality and experience of the administrative staff, the plans for quality control through in-house consultation and outside review (e.g., Scientific Advisory Board), and the quality of the plans allocating and monitoring of resources.

E. Ease of Collaboration: Does the location of the proposed Institute allow for easy collaboration with NESDIS's principal centers of research, applications development, and operational activities?

F. Budget: Reasonableness of proposed budget and time frame for the project in relation to the work proposed.

2. Research Component—55 points

A. Research Theme and Agenda: Is the concept of an institute fulfilled, i.e., is there an organizing theme (or set of themes) and associated research agenda that defines the mission of the CIORS.

B. Societal Significance: Does the proposal address important coastal and open ocean issues amenable to ocean remote-sensing observations? What will be the effect of the institute and its affiliated studies on fundamental advances in the development, testing, and dissemination of coastal and open-ocean satellite remotely sensed data and information?

C. Leadership: Are the institute director and other senior investigators recognized as leaders in their respective fields? Do they have the experience and authority to organize, administer and direct the Institute?

D. Research Projects: Are the proposed specific research themes of exceptional scientific merit?

E. Innovation: Does the Institute propose to develop novel concepts, approaches, measures or methods in basic research that will inform and guide public use of satellite-remote-sensing-derived ocean data and information? Are the aims original and innovative? Do the projects extend existing approaches or develop new methodologies or technologies?

3. Recruitment and Outreach (Promote Training)—15 Points

A. Does the applicant include a research development component for new, mid-career or transitional professionals through research training and career development mechanisms?

B. To what extent are efforts made to recruit a wide variety of professionals and students to the CIORS, including minority professionals and students?

Selection Procedures: A selection panel will be convened to review and to provide recommendations on selection using the above criteria. The panel may consist of both Federal and non-Federal experts in the field. No consensus recommendation will be made. Proposals will be ranked according to their cumulative score and presented to the Selecting Official for final selection. In addition to the individual rankings assigned by the panel, the selecting official may consider the following program policy factors: Balance among the prioritized research areas of programmatic interest described in the Program Description of this Notice and duplication of other research programs currently funded by NOAA. Unsatisfactory performance by a recipient under prior Federal awards may result in an application not being considered for funding. As a result of this review, the Selecting Official may decide to select an award out of rank order.

Disposition of Unsuccessful Proposals. Proposals will be held in the Program Office until award of the Cooperative Institute agreement to the selected recipient and then destroyed.

Funding

A maximum of $250,000 will be available annually for the core administrative costs of establishing and maintaining the Institute. Funds for the core proposal will be provided at the beginning of the annual performance period. It is estimated that an additional $250,000 will be available during the first year of performance to fund the individual research projects. Individual research projects will be funded as amendments to the agreement throughout the 5-year period. It is estimated that a minimum of $500,000 each year thereafter for the term of the agreement will be available for funding the administrative, outreach, and research projects. The Institute will be expected to leverage off this base to develop, by the end of the initial 5-year term of the grant, a self-sustaining, competitive research program with a goal on the order of $1,000,000 annually in externally supported coastal and open ocean remote-sensing research.

Cost Sharing—There is no requirement for cost sharing in response to this program announcement.

Intergovernmental Review

Applications under this program are not subject to Executive Order 12372, “Intergovernmental Review of Federal Programs.”

Executive Order 12866

It has been determined that this notice is not significant for purposes of Executive Order 12866.

Executive Order 13132 (Federalism)

It has been determined that this notice does not contain policies with Federalism implications as that term is defined in Executive Order 13132.

Because notice and comment are not required under 5 U.S.C. 553, or any other law, for notices relating to public property, loans, grants benefits or contracts (5 U.S.C. 553(a)), a Regulatory Flexibility Analysis is not required and has not been prepared for this notice, 5 U.S.C. et seq.

Dated: April 26, 2002.
Gregory W. Withee,
Assistant Administrator for Satellite and Information Services.

[FR Doc. 02-10982 Filed 5-2-02; 8:45 am]

BILLING CODE 3510-HR-P